DEPARTMENT OF COMMERCE

International Trade Administration

[A-570-992]

Monosodium Glutamate From the People's Republic of China: Final Affirmative Determination of Circumvention

AGENCY: Enforcement and Compliance, International Trade Administration, Department of Commerce.

SUMMARY: The U.S. Department of Commerce (Commerce) determines that imports of monosodium glutamate (MSG) completed in Malaysia using glutamic acid produced in the People's Republic of China (China) are circumventing the antidumping duty (AD) order on MSG from China.

DATES: Applicable May 29, 2025.

FOR FURTHER INFORMATION CONTACT: Thomas Cloyd, AD/CVD Operations, Office VII, Enforcement and Compliance, International Trade Administration, U.S. Department of Commerce, 1401 Constitution Avenue NW, Washington, DC 20230; telephone: (202) 482-1246.

SUPPLEMENTARY INFORMATION:

Background

On February 21, 2025, Commerce published in the Federal Register its Preliminary Determination that imports of MSG completed in Malaysia using glutamic acid produced in China are circumventing the Order.¹ Pursuant to section 781(e) of the Tariff Act of 1930, as amended (the Act), on March 20, 2025, Commerce notified the U.S. International Trade Commission (ITC) of its preliminary affirmative determination of circumvention.² The ITC did not request consultations with Commerce.

¹ See Monosodium Glutamate from the People's Republic of China: Second Amended Final Determination of Sales at Less Than Fair Value and Amended Antidumping Order, 80 FR 487 (January 6, 2015) (Order); see also Monosodium Glutamate from the People's Republic of China: Preliminary Affirmative Determination of Circumvention, 90 FR 10068 (February 21, 2025) (Preliminary Determination), and accompanying Preliminary Decision Memorandum (PDM).

² See Commerce's Letter, “Notification of Affirmative Preliminary Determination of Circumvention,” dated March 20, 2025.

On April 28, 2025, CPF Legacy, LLC dba C. Pacific and JEFI Enterprise (USA) Inc. (collectively, the U.S. Importers) and Ajinomoto Health & Nutrition North America, Inc. (Ajinomoto NA) submitted case briefs.³ On May 5, 2025, the U.S. Importers and Ajinomoto NA submitted a letter in lieu of a rebuttal brief and a rebuttal brief, respectively.⁴ On March 18, 2025, Commerce extended the deadline for issuing the final determination in this circumvention inquiry until May 22, 2025.⁵

³ See U.S. Importers' Letter, “Importers' Administrative Case Brief,” dated April 28, 2025; see also Ajinomoto NA's Letter, “Comments on Preliminary Determination,” dated April 28, 2025.

⁴ See U.S. Importers' Letter, “CPF & JEFI's Letter in Lieu of Rebuttal Brief,” dated May 5, 2025; see also Ajinomoto NA's Letter, “Rebuttal Comments,” dated May 5, 2025.

⁵ See Memorandum, “Extension of Deadline for the Final Determination in Circumvention Inquiry,” dated March 18, 2025.

For a summary of events that occurred since the Preliminary Determination, as well as a full discussion of the issues raised by parties for consideration in the final determination, see the Issues and Decision Memorandum.⁶

⁶ See Memorandum, “Issues and Decision Memorandum for the Circumvention Inquiry of the Antidumping Duty Order on Monosodium Glutamate from the People's Republic of China,” dated concurrently with, and hereby adopted by, this notice (Issues and Decision Memorandum).

The Issues and Decision Memorandum is a public document and is on file electronically via Enforcement and Compliance's Antidumping and Countervailing Duty Centralized Electronic Service System (ACCESS). ACCESS is available to registered users at https://access.trade.gov. In addition, a complete version of the Issues and Decision Memorandum can be accessed at https://access.trade.gov/public/FRNoticesListLayout.aspx.

Scope of the Order

The product covered by the scope of the Order is MSG from China. For a full description of the scope of the Order, see Appendix I of this notice.

Merchandise Subject to the Circumvention Inquiry

This circumvention inquiry covers MSG finished in Malaysia using glutamic acid produced in China and subsequently exported from Malaysia to the United States (inquiry merchandise).

Analysis of Comments Received

All issues raised in this inquiry are addressed in the Issues and Decision Memorandum. A list of the issues raised is attached to this notice as Appendix II. Based on our analysis of the comments received, we made changes to the Preliminary Determination, as described below, and at Comments 1 and 2 of the Issues and Decision Memorandum.

Methodology and Final Circumvention Determination

Commerce conducted this circumvention inquiry in accordance with section 781(b) of the Act and 19 CFR 351.226. For this final determination, Commerce relied on facts available under section 776(a) of the Act, including facts available with adverse inferences (AFA) under section 776(b) of the Act with respect to Ajinoriki, due to Ajinoriki's failure to participate in Commerce's required on-site verification of the information contained in Ajinoriki's questionnaire responses. For further explanation of Commerce's decision to rely on AFA with respect to Ajinoriki, see the Issues and Decision Memorandum. As a result, in accordance with section 781(b) of the Act, Commerce determines that the inquiry merchandise exported from Malaysia by Ajinoriki is circumventing the Order. Furthermore, Commerce is applying this affirmative determination of circumvention of the Order on a country-wide basis. Also, because Commerce was unable to verify the information which may support Ajinoriki's eligibility to certify, as AFA, Ajinoriki is no longer eligible to certify that its shipments to the United States of MSG, produced or exported by Ajinoriki do not contain Chinese-origin glutamic acid. Finally, no other producer or exporter of MSG has cooperated in this inquiry; as a result, Commerce is applying this final affirmative determination of circumvention on a country-wide basis. Thus, as a result of Commerce's country-wide affirmative determination of circumvention, Commerce is removing the certification process established in the Preliminary Determination.⁷ In a future administrative review, companies may be able to revisit the issue of eligibility for certifications of their entries of inquiry merchandise.

⁷ See Preliminary Determination, 90 FR at Appendix II.

We have continued to apply the methodology relied upon for the Preliminary Determination, including our use of AFA with respect to the non-responsive companies: (1) Ajinoriki MSG Sdn Bhd; (2) Aruni Enterprise M Sdn Bhd; (3) Habita Foods Industries Sdn Bhd; (4) Delisauce World Foods Sdn Bhd; (5) Suntraco Food Industries Sdn Bhd; (6) Yeo Hiap Seng (Malaysia) Berhad; (7) Bidor Kwong Heng Sdn Bhd; and (8) Scigate Industries 002998063-A, pursuant to sections 776(a) and (b) of the Act, for our final determination. As AFA, we continue to determine that MSG exported to the United States by these non-responsive companies are circumventing the Order. For a detailed explanation of our determination, see the Preliminary Determination PDM.

See the “Suspension of Liquidation and Cash Deposit Requirements” section, below, for details regarding suspension of liquidation and cash deposit requirements.

Suspension of Liquidation and Cash Deposit Requirements

Based on the affirmative country-wide determinations of circumvention, in accordance with 19 CFR 351.226(l)(3)(iii)(A) and (B) and 19 CFR 351.227(l)(3)(iii), we will direct CBP to suspend liquidation and require a cash deposit of estimated duties on all unliquidated entries of MSG completed or assembled in Malaysia using Chinese-origin glutamic acid, that were entered, or withdrawn from warehouse, for consumption prior to 5/15/2024 (the date of initiation of the circumvention inquiry), back to, and including, November 4, 2021,⁸ and (ii) that were entered, or withdrawn from warehouse, for consumption on or after May 15, 2024.

⁸ November 4, 2021, was the date Commerce's circumvention regulations became effective. See Regulations To Improve Administration and Enforcement of Antidumping and Countervailing Duty Laws, 86 FR 52300 (September, 20, 2021).

For all suspended U.S. entries of inquiry merchandise, the AD cash deposit rate will be the cash deposit rate for the China-wide entity (i.e., 56.54 percent).⁹ Commerce has established the following third-country case number in the Automated Commercial Environment (ACE) for such entries: Malaysia A-557-992-000.

⁹ See Order.

Cash deposits for entries of MSG from Malaysia already subject to the Order should continue to be collected in accordance with existing CBP instructions and Chinese ACE numbers for such entries: A-570-992.

These suspension of liquidation instructions and cash deposit requirements will remain in effect until further notice.

Opportunity To Request an Administrative Review

Each year during the anniversary month of the publication of an AD or CVD order, finding, or suspended investigation, an interested party, as defined in section 771(9) of the Act, may request, in accordance with 19 CFR 351.213, that Commerce conduct an administrative review of that AD or CVD order, finding, or suspended investigation. Interested parties who wish to request that Commerce conduct an administrative review should wait until Commerce announces via the Federal Register the next window during the anniversary month (e.g. November 2025) of the Order to submit such requests.

Administrative Protective Order (APO)

This notice will serve as the only reminder to all parties subject to an APO of their responsibility concerning the destruction of proprietary information disclosed under APO in accordance with 19 CFR 351.305(a)(3). Timely written notification of the return or destruction of APO materials or conversion to judicial protective order is hereby requested. Failure to comply with the regulations and the terms of an APO is a sanctionable violation.

Notification to Interested Parties

Commerce is issuing and publishing this notice in accordance with sections 781(b) and 777(i) of the Act, and 19 CFR 351.226(g)(2).

Dated: May 22, 2025.
Christopher Abbott,
Deputy Assistant Secretary for Policy and Negotiations performing the non-exclusive functions and duties of the Assistant Secretary for Enforcement and Compliance.

Appendix I

Scope of the Order

The scope of this Order covers MSG, whether or not blended or in solution with other products. Specifically, MSG that has been blended or is in solution with other product(s) is included in this scope when the resulting mix contains 15 percent or more of MSG by dry weight. Products with which MSG may be blended include, but are not limited to, salts, sugars, starches, maltodextrins, and various seasonings. Further, MSG is included in this order regardless of physical form (including, but not limited to, in monohydrate or anhydrous form, or as substrates, solutions, dry powders of any particle size, or unfinished forms such as MSG slurry), end-use application, or packaging.

MSG in monohydrate form has a molecular formula of C5H8NO4Na-H2O, a Chemical Abstract Service (CAS) registry number of 6106-04-3, and a Unique Ingredient Identifier (UNII) number of W81N5U6R6U. MSG in anhydrous form has a molecular formula of C5H8NO4Na, a CAS registry number of l42-47-2, and a UNII number of C3C196L9FG.

Merchandise covered by the scope of this Order is currently classified in the Harmonized Tariff Schedule of the United States (HTSUS) at subheading 2922.42.10.00. Merchandise subject to the Order may also enter under HTSUS subheadings 2922.42.50.00, 2103.90.72.00, 2103.90.74.00, 2103.90.78.00, 2103.90.80.00, and 2103.90.90.91. The tariff classifications, CAS registry numbers, and UNII numbers are provided for convenience and customs purposes; however, the written description of the scope is dispositive.

Appendix II

List of Topics Discussed in the Issues and Decision Memorandum

I. Summary

II. Background

III. Changes Since the Preliminary Determination

IV. Use of Facts Otherwise Available and Application of Adverse Inferences

V. Discussion of the Issues

Comment 1: Whether to Apply AFA to Ajinoriki

Comment 2: Whether Ajinoriki Should Be Ineligible for the Certification Program

Comment 3: Whether Commerce Should Apply Antidumping Cash Deposits Prior to the Date of the Initiation of the Circumvention Inquiry

Comment 4: Whether the U.S. Importers Should Have Been Allowed to Submit New Factual Information

Comment 5: Whether Commerce Should Reverse Its Circumvention Finding

VI. Recommendation

[FR Doc. 2025-09693 Filed 5-28-25; 8:45 am]

BILLING CODE 3510-DS-P